DEPARTMENT OF LABOR

Employment and Training Administration

[TA-W-39,560]

ISB Fashion, Inc., New York, New York; Amended Certification Regarded Eligibility To Apply for Worker Adjustment Assistance

In accordance with section 223 of the Trade Act of 1974 (19 U.S.C. 2273), the Department of Labor issued a Notice of Certification Regarding Eligibility to Apply for Worker Adjustment Assistance on August 29, 2001, applicable to workers of ISB Fashion, Inc., New York, New York. The notice was published in the Federal Register on September 11, 2001 (66 FR 47241).

At the request of the State agency, the Department reviewed the certification for workers of the subject firm. The workers were engaged in the production of women's dresses. Findings show that the Department incorrectly set the worker certification impact date at June 21, 2001. The impact date should be June 21, 2000, one year prior to the date of the petition.

Accordingly, the Department is amending the certification to properly reflect this matter.

The amended notice applicable to TA-W-39,560 is hereby issued as follows:

All workers of ISB Fashion, Inc., New York, New York who became totally or partially separated from employment on or after June 21, 2000, through August 29, 2003, are eligible to apply for adjustment assistance under Section 223 of the Trade Act of 1974.

Signed at Washington, DC this 5th day of November, 2001.
Edward A. Tomchick,
Director, Division of Trade Adjustment Assistance.

[FR Doc. 01-30060 Filed 12-4-01; 8:45 am]

BILLING CODE 4510-30-M